DEPARTMENT OF HEALTH AND HUMAN SERVICES

Agency for Toxic Substances and Disease Registry

Statement of Organization, Functions, and Delegations of Authority

PART J (Agency for Toxic Substances and Disease Registry) of the Statement of Organization, Functions, and Delegations of Authority of the Department of Health and Human Services (50 FR 25129-25130, dated June 17, 1985, as amended most recently at 70 FR 72839-72840, dated December 7, 2005) is amended to reflect the reorganization of the Agency for Toxic Substances and Disease Registry (ATSDR).

Section T-B, Organization and Functions, is hereby amended as follows:

Delete item (11) of the functional statement for the Office of Communications (JAA4), Office of the Director (JAA), Office of the Administrator (JA), and insert the following: (11) provides publications-related activities including preparing articles and drafting news releases, distributing publications, and bibliographic services, and.

Delete item (8) of the functional statement for the Office of Communications (JAA4), and renumber the remaining items accordingly.

Dated: July 21, 2006.
William H. Gimson,
Chief Operating Officer, Centers for Disease Control and Prevention (CDC).

[FR Doc. 06-6676 Filed 8-3-06; 8:45 am]

BILLING CODE 4160-70-M